NATIONAL SCIENCE FOUNDATION

Proposal Review Panel for Physics; Notice of Meeting

In accordance with the Federal Advisory Committee Act (Pub. L. 92-463, as amended), the National Science Foundation announces the following meeting.

Name: Syracuse University Site Visit, Proposal Review Panel for Physics (1208).

Date and Time: Wednesday, February 11, 2009; 8:30 a.m.-6:30 p.m. Thursday, February 12, 2009; 8 a.m.-3 p.m.

Place: Syracuse University, New York.

Type of Meeting: Partially Closed.

Contact Person: Dr. James Reidy, Program Director for Elementary Particle Physics, National Science Foundation, 4201 Wilson Blvd., Arlington, VA 22230. Telephone: (703) 292-7392.

Purpose of Meeting: To provide an evaluation concerning the proposal submitted to the National Science Foundation.

Agenda

Wednesday, February 11, 2009

8:30 a.m.-9 a.m. Closed—Executive Session.

9 a.m.-10:15 a.m. Open—Overview by Professor Stone.

10:30 p.m.-12 p.m. Closed—Overview and Executive Sessions.

1 p.m.-4 p.m. Open—Faculty Presentations.

4 p.m.-6:30 p.m. Closed—Executive Session.

Thursday, February 12, 2009

8 a.m.-9:30 a.m. Closed—Executive Session and Discussion with Faculty.

9:30 a.m.-10:30 a.m. Open—Video From CERN.

10:30 a.m.-11 a.m. Closed—Meeting with Associate VP for Research.

11 a.m.-1 p.m. Open—Tour of Laboratory and Shop Facilities. Lunch with Students.

1 p.m.-2:30 p.m. Closed—Executive Session, close out with Faculty only.

2:30 p.m.-3 p.m. Open—Close out.

Reason for Closing: The proposal contains proprietary or confidential material, including technical information on personnel. These matters are exempt under 5 U.S.C. 552b(c)(2)(4) and (6) of the Government in the Sunshine Act.

Dated: January 22, 2008.
Susanne Bolton,
Committee Management Officer.

[FR Doc. E9-1817 Filed 1-27-09; 8:45 am]

BILLING CODE 7555-01-P